DEPARTMENT OF HOMELAND SECURITY

Federal Emergency Management Agency

44 CFR Part 67

[Docket ID FEMA-2008-0020; Internal Agency Docket No. FEMA-B-1053]

Proposed Flood Elevation Determinations

AGENCY: Federal Emergency Management Agency, DHS.

ACTION: Proposed rule.

SUMMARY: Comments are requested on the proposed Base (1% annual-chance) Flood Elevations (BFEs) and proposed BFE modifications for the communities listed in the table below. The purpose of this notice is to seek general information and comment regarding the proposed regulatory flood elevations for the reach described by the downstream and upstream locations in the table below. The BFEs and modified BFEs are a part of the floodplain management measures that the community is required either to adopt or show evidence of having in effect in order to qualify or remain qualified for participation in the National Flood Insurance Program (NFIP). In addition, these elevations, once finalized, will be used by insurance agents, and others to calculate appropriate flood insurance premium rates for new buildings and the contents in those buildings.

DATES: Comments are to be submitted on or before August 24, 2009.

ADDRESSES: The corresponding preliminary Flood Insurance Rate Map (FIRM) for the proposed BFEs for each community are available for inspection at the community's map repository. The respective addresses are listed in the table below.

You may submit comments, identified by Docket No. FEMA-B-1053, to William R. Blanton, Jr., Chief, Engineering Management Branch, Mitigation Directorate, Federal Emergency Management Agency, 500 C Street, SW., Washington, DC 20472, (202) 646-3151, or (e-mail) bill.blanton@dhs.gov.

FOR FURTHER INFORMATION CONTACT: William R. Blanton, Jr., Chief, Engineering Management Branch, Mitigation Directorate, Federal Emergency Management Agency, 500 C Street, SW., Washington, DC 20472, (202) 646-3151 or (e-mail) bill.blanton@dhs.gov.

SUPPLEMENTARY INFORMATION: The Federal Emergency Management Agency (FEMA) proposes to make determinations of BFEs and modified BFEs for each community listed below, in accordance with section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own, or pursuant to policies established by other Federal, State, or regional entities. These proposed elevations are used to meet the floodplain management requirements of the NFIP and are also used to calculate the appropriate flood insurance premium rates for new buildings built after these elevations are made final, and for the contents in these buildings.

Comments on any aspect of the Flood Insurance Study and FIRM, other than the proposed BFEs, will be considered. A letter acknowledging receipt of any comments will not be sent.

Administrative Procedure Act Statement. This matter is not a rulemaking governed by the Administrative Procedure Act (APA), 5 U.S.C. 553. FEMA publishes flood elevation determinations for notice and comment; however, they are governed by the Flood Disaster Protection Act of 1973, 42 U.S.C. 4105, and the National Flood Insurance Act of 1968, 42 U.S.C. 4001 et seq., and do not fall under the APA.

National Environmental Policy Act. This proposed rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Executive Order 12866, Regulatory Planning and Review. This proposed rule is not a significant regulatory action under the criteria of section 3(f) of Executive Order 12866, as amended.

Executive Order 13132, Federalism. This proposed rule involves no policies that have federalism implications under Executive Order 13132.

Executive Order 12988, Civil Justice Reform. This proposed rule meets the applicable standards of Executive Order 12988.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

Flooding source(s) | Location of referenced elevation ** | * Elevation in feet (NGVD) + Elevation in feet (NAVD) # Depth in feet above ground ‸ Elevation in meters (MSL): Effective | * Elevation in feet (NGVD) + Elevation in feet (NAVD) # Depth in feet above ground ‸ Elevation in meters (MSL): Modified | Communities affected
Coffee County, Alabama, and Incorporated Areas
Beaverdam Creek | Approximately 3,492 feet upstream of confluence of Pea River and Beaverdam Creek | +195 | +199 | City of Elba.
| Approximately 6,718 feet upstream of confluence of Pea River and Beaverdam Creek | +203 | +204
Pea River | Approximately 3,160 feet downstream of the intersection of County Road 404 and Reese Avenue | +191 | +192 | City of Elba, Unincorporated Areas of Coffee County.
| Approximately 13,918 feet upstream of confluence of Pea River and Whitewater Creek | +205 | +206
Whitewater Creek | Approximately 2,000 feet upstream of State Route 203 | +198 | +205 | City of Elba, Unincorporated Areas of Coffee County.
| Approximately 14,458 feet upstream of State Route 203 | +205 | +206
Wilkerson Creek | From the Coffee County boundary with Geneva County | None | +135 | Unincorporated Areas of Coffee County.
| Approximately 2,140 feet upstream of the Coffee County boundary | None | +138
Wilson Mill Creek | Approximately 390 feet downstream of County Road 45 | None | +135 | Unincorporated Areas of Coffee County.
| Just downstream of County Road 45 | None | +137
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
City of Elba
Maps are available for inspection at 200 Buford Street, Elba, AL 36323.
Unincorporated Areas of Coffee County
Maps are available for inspection at 1065 East McKinnon Street, New Brockton, AL 36351.
Coconino County, Arizona, and Incorporated Areas
Bow and Arrow Wash | Approximately 50 feet downstream of South Lone Tree Road | +6879 | +6878 | City of Flagstaff.
| Approximately 1,800 feet upstream of Lake Mary Road | None | +6949
Peak View Wash | At confluence with Rio de Flag | +7111 | +7113 | City of Flagstaff.
| Approximately 125 feet upstream of Lois Lane | +7121 | +7123
Rio de Flag | At Rio Rancho Road | +6519 | +6521 | City of Flagstaff, Unincorporated Areas of Coconino County.
| Approximately 150 feet downstream of Route 66 | None | +6758
| At Narrows Dam | +7086 | +7087
| Approximately 565 feet downstream of Hidden Hollow Road | +7147 | +7148
Schultz Creek | Approximately 175 feet upstream of North Fort Valley Road | None | +7006 | City of Flagstaff, Unincorporated Areas of Coconino County.
| Approximately 0.57 mile upstream of Mary Russel Way | None | +7140
Schultz Creek Ponding | Approximately 50 feet upstream of the confluence with Rio de Flag | None | #1 | City of Flagstaff, Unincorporated Areas of Coconino County.
| Approximately 175 feet upstream of North Fort Valley Road | None | #1
Switzer Canyon Wash | Approximately 50 feet upstream of the upstream end of the East Route 66 culvert | +6866 | +6869 | City of Flagstaff, Unincorporated Areas of Coconino County.
| Approximately 0.42 mile upstream of Elk Drive | +7029 | +7030
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
City of Flagstaff
Maps are available for inspection at Flagstaff City Hall, 211 West Aspen Avenue, Flagstaff, AZ.
Unincorporated Areas of Coconino County
Maps are available for inspection at the Coconino County Department of Community Development, 2500 North Fort Valley Road, Building 1, Flagstaff, AZ.
Pulaski County, Arkansas, and Incorporated Areas
Bayou Meto | Approximately 3.48 miles downstream of Southeastern Avenue | +244 | +243 | City of Jacksonville, Unincorporated Areas of Pulaski County.
| Approximately 3.87 miles downstream of Old Tom Box Road | +266 | +263
| Just upstream of Davis Ranch Road | None | +320
Bridge Drive | At the confluence of Bayou Meto | None | +266 | Unincorporated Areas of Pulaski County.
| Approximately 1.35 miles upstream of Bridge Field Drive | None | +271
Five Mile Creek | At the confluence with Bayou Meto | +247 | +248 | Unincorporated Areas of Pulaski County.
| Just upstream of Rixie Road | +251 | +252
Jacks Bayou | Approximately 1.93 miles downstream of Preters Road | None | +277 | Unincorporated Areas of Pulaski County.
| Approximately 1,200 feet upstream of Peters Road | None | +283
Jacks Bayou Tributary 10 | Approximately 1,000 feet downstream of Mercury Drive | None | +274 | Unincorporated Areas of Pulaski County.
| Approximately 1,800 feet upstream of Hercules Drive | None | +279
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
City of Jacksonville
Maps are available for inspection at One Industrial Drive, Jacksonville, AR 72076.
Unincorporated Areas of Pulaski County
Maps are available for inspection at 501 West Markham Street, Suite A, Little Rock, AR 72201.
Siskiyou County, California, and Incorporated Areas
Oregon Slough | Corporate Limits of the City of Montague and Siskiyou Unincorporated | None | +2503 | Unincorporated Areas of Siskiyou County.
| Approximately 0.4 mile downstream of Ager Road | None | +2515
| Approximately 325 feet downstream of Ager Road | None | +2523
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
Unincorporated Areas of Siskiyou County
Maps are available for inspection at the Siskiyou County Public Health and Community Development Department, 806 South Main Street, Yreka, CA.
Cass County, Illinois, and Incorporated Areas
Illinois River | The confluence with Camp Creek (Brown County), approximately 2,185 feet upstream of the Cass/Morgan boundary | +447 | +448 | City of Beardstown, Unincorporated Areas of Cass County.
| The downstream end of Elm Island (Schuyler County), approximately 650 feet upstream of the Cass/Mason boundary | +450 | +452
Illinois River Backwater on the Sangamon River | The confluence with the Illinois River | +449 | +451 | Unincorporated Areas of Cass County.
| Approximately 12 miles upstream of the confluence with the Illinois River | None | +452
Panther Creek | Approximately 3,220 feet downstream of State Highway 78 | None | +458 | Unincorporated Areas of Cass County.
| The Limit of Detailed Study, approximately 3,660 feet upstream of Main Street | None | +472
Sangamon River | Approximately 285 feet upstream of Old River Road | None | +456 | Unincorporated Areas of Cass County, City of Beardstown.
| Approximately 1,600 feet upstream of State Highway 78 | None | +461
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
City of Beardstown
Maps are available for inspection at Beardstown City Hall, 105 West 3rd Street, Beardstown, IL 62618.
Unincorporated Areas of Cass County
Maps are available for inspection at the Cass County Courthouse, 100 East Springfield Street, Virginia, IL 62691.
Jo Daviess County, Illinois, and Incorporated Areas
Apple River | Approximately 2.2 miles upstream of Crazy Hollow Road | None | +616 | Village of Hanover, Unincorporated Areas of Jo Daviess County.
| Approximately 0.78 miles upstream of North Washington Street | None | +622
Mississippi River | Approximately 559.7 miles upstream of the confluence with the Ohio River (approximately 0.6 miles upstream of West Diggen Hill Road extended) | +603 | +604 | Unincorporated Areas of Jo Daviess County.
| Approximately 572.3 miles upstream of the confluence with the Ohio River (approximately 1.5 miles upstream of Sand Ridge Road extended) | +607 | +608
Mississippi River Backwater | The Apple River from the Jo Daviess/Carroll County boundary (approximately 0.7 miles upstream of Savanna Army Depot Road in Carroll County) | None | +599 | Unincorporated Areas of Jo Daviess County.
| Approximately 1.45 miles upstream of the Jo Daviess/Carroll County boundary (approximately 200 feet upstream of West Whitton Road) | None | +599
| The Galena River from the confluence with the Mississippi River (approximately 0.1 mile downstream of Railroad Bridge) | +604 | +605
| Approximately 0.86 miles upstream of the confluence with the Mississippi River (approximately 0.76 miles upstream of Railroad Bridge) | +604 | +605
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
Unincorporated Areas of Jo Daviess County
Maps are available for inspection at the Jo Daviess County Courthouse, 330 North Bench Street, Galena, IL 61036.
Village of Hanover
Maps are available for inspection at the Hanover Village Hall, 207 Jefferson Street, Hanover, IL 61041.
Schuyler County, Illinois, and Incorporated Areas
Illinois River | Approximately 0.4 miles downstream of the confluence with the La Moine River | +448 | +450 | Unincorporated Areas of Schuyler County, Village of Browning.
| Approximately 2.55 miles upstream of the confluence with Elm Creek | +451 | +452
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
Unincorporated Areas of Schuyler County
Maps are available for inspection at the Schuyler County Highway Department, 121 Henninger Drive, Rushville, IL 62681.
Village of Browning
Maps are available for inspection at the Village Hall 501 Main Street, P.O. 169, Browning, IL 62624.
Worcester County, Massachusetts, and Incorporated Areas
Big Bummet River | Just downstream of State Highway 140 | +384 | +385 | Town of Shrewsbury.
| At the corporate limits of the Town of Shrewsbury with the Town of Grafton | +383 | +385
Blackstone River | Approximately 1,750 feet downstream of Saint Paul Street Bridge | +160 | +159 | Town of Blackstone, City of Worcester, Town of Grafton, Town of Millbury, Town of Millville, Town of Northbridge, Town of Sutton, Town of Uxbridge.
| Approximately 250 feet downstream of Millbury Street Bridge | +443 | +444
Cold Spring Brook | At its confluence with Blackstone River | +326 | +323 | Town of Sutton.
| Approximately 150 feet downstream of State Highway 122A | +326 | +325
Cronin Brook | At its confluence with Blackstone River | +301 | +298 | Town of Grafton.
| Approximately 1,100 feet downstream of Follette Street | +301 | +302
Goodridge Brook | Approximately 150 feet upstream of State Highway 70 | None | +258 | Town of Clinton.
| Approximately 250 feet downstream of Parker Road | None | +258
Middle River | Approximately 250 feet downstream of Millbury Street Bridge | +443 | +444 | City of Worcester.
| Approximately 100 feet downstream of McKeon Road | +451 | +452
Mill River | Approximately 3,900 feet downstream of Colonial Drive | None | +196 | Town of Blackstone.
| Approximately 1,300 feet downstream of Colonial Drive | None | +198
Mumford River | At its confluence with Blackstone River | +227 | +225 | Town of Uxbridge.
| Approximately 300 feet downstream of Mendon Street | +227 | +226
Quinsigamond River | At its confluence with Blackstone River | +295 | +293 | Town of Grafton.
| At Pleasant Street Bridge | +295 | +293
Riverdale Milles Sluice Gates and Tail Race | Approximately 600 feet upstream of the confluence with Blackstone River | +255 | +256 | Town of Northbridge.
| Approximately 100 feet upstream of Riverdale Street | +258 | +259
Singletary Brook | At its confluence with Blackstone River | +395 | +393 | Town of Millbury.
| Approximately 300 feet downstream of Rhodes Street | +395 | +394
West River | At its confluence with Blackstone River | +226 | +224 | Town of Uxbridge.
| Approximately 200 feet upstream of Henry Street Bridge | +226 | +225
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
City of Worcester
Maps are available for inspection at City Hall, 455 Main Street, Worcester, MA 01608.
Town of Blackstone
Maps are available for inspection at the Town Hall, 15 Saint Paul Street, Blackstone, MA 01504.
Town of Clinton
Maps are available for inspection at the Town Hall, 242 Church Street, Clinton, MA 01510.
Town of Grafton
Maps are available for inspection at the Town Hall, 30 Providence Road, Grafton, MA 01519.
Town of Millbury
Maps are available for inspection at the Town Hall, 127 Elm Street, Millbury, MA 01527.
Town of Millville
Maps are available for inspection at the Town Hall, 8 Central Street, Millville, MA 01529.
Town of Northbridge
Maps are available for inspection at the Town Hall, 7 Main Street, Whitinsville, MA 01588.
Town of Shrewsbury
Maps are available for inspection at the Town Hall, 100 Maple Avenue, Shrewsbury, MA 01545.
Town of Sutton
Maps are available for inspection at the Town Hall, 4 Uxbridge Road, Sutton, MA 01590.
Town of Uxbridge
Maps are available for inspection at the Town Hall, 21 South Main Street, Uxbridge, MA 01569.
Clinton County, Michigan, and Incorporated Areas
Looking Glass River | Just upstream of South Chandler Road | None | +805 | Township of Victor, Township of Bath.
| Approximately 9,000 feet upstream of Babcock Road | None | +807
Prairie Creek and Gunderman Lake Drain | At confluence with Remey Chandler Drain | None | +817 | Township of DeWitt.
| Approximately 7,410 feet upstream of West Stoll Road | None | +832
Remey Chandler Drain | Approximately 350 feet downstream of Interstate Highway 69 | None | +835 | City of East Lansing, Township of Bath, Township of De Witt.
| Approximately 1,140 feet upstream of Coleman Road | None | +844
Steel and Walbridge Drain | At confluence with Spaulding Drain | None | +730 | City of St. Johns, Bingham.
| Approximately 600 feet upstream of Glastonbury Drive | None | +752
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
Bingham
Maps are available for inspection at 1637 South DeWitt Road, St. Johns, MI 48879.
City of East Lansing
Maps are available for inspection at 410 Abbott Road, East Lansing, MI 48823-3388.
City of St. Johns
Maps are available for inspection at 100 East State Street, Suite 1100, St. Johns, MI 48879-0477.
Township of Bath
Maps are available for inspection at 14480 Webster Road, P.O. Box 247, Bath, MI 48808-0247.
Township of DeWitt
Maps are available for inspection at 1401 West Herbison Road, DeWitt, MI 48820.
Township of Victor
Maps are available for inspection at 6843 East Alward Road, Laingsburg, MI 48848-9256.
Ransom County, North Dakota, and Incorporated Areas
Sheyenne River | Approximately 1,064 feet upstream of Richland County Line | None | +990 | Unincorporated Areas of Ransom County.
| Approximately 7,465 feet downstream of State Highway 46 | None | +1160
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
City of Fort Ransom
Maps are available for inspection at P.O. Box 17, Fort Ransom, ND 58033.
City of Lisbon
Maps are available for inspection at P.O. Box 1079, Lisbon, ND 58054.
Unincorporated Areas of Ransom County
Maps are available for inspection at 204 5th Avenue West, Lisbon, ND 58054-4115.
Cuyahoga County, Ohio, and Incorporated Areas
Anthony Lake Tributary | Approximately 425 feet downstream of Anthony Lane | +895 | +897 | City of Parma Heights, City of Parma.
| Approximately 140 feet upstream of Anthony Lane | +895 | +902
Big Creek | Approximately 300 feet downstream of Ridge Road | None | +679 | City of Brooklyn.
| Approximately 1,100 feet upstream of Ridge Road | None | +695
Chagrin River | Approximately ½ mile upstream of Rogers Road | None | +683 | Village of Mayfield.
Chagrin River | Approximately 40 feet upstream of Woodland Road | None | +786 | Village of Moreland Hills.
| Approximately 1,200 feet upstream of Woodland Road | None | +789
| Approximately 850 feet downstream of Miles Road | None | +851
| Approximately 1,200 feet upstream of Miles Road | None | +860
Countrymans Creek | Upstream of Interstate 71 | None | +721 | Village of Linndale.
| Downstream of Bellaire Road | None | +727
Cuyahoga River | Approximately 40 feet upstream of Brecksville Road | None | +605 | City of Garfield Heights.
| Approximately 700 feet upstream of Brecksville Road | None | +607
Doan Brook | Approximately 160 feet upstream of Martin Luther King Jr. Drive | None | +777 | City of Cleveland Heights.
| Approximately 130 feet upstream of West Woodland Road | None | +915
Dover Ditch | Approximately 150 feet downstream of Harding Drive | None | +724 | City of North Olmsted.
Gifford-Avon Ditch | Approximately 100 Feet upstream of Naigle Road | +622 | +629 | City of Westlake.
| Approximately 0.5 mile upstream of Naigle Road | +626 | +629
Lake Erie | Entire Shoreline | +589 | +576 | City of Bay Village, City of Cleveland, City of Lakewood.
Mill Creek | Approximately 30 feet downstream of McCracken Road | +839 | +841 | City of Maple Heights.
| Approximately 390 feet upstream of McCracken Road | +840 | +841
Plum Creek | Mouth at West Branch Rocky River | None | +710 | City of Olmsted Falls.
| Approximately 70 feet downstream of Sprague Road | None | +780
Plum Creek | Approximately 2,900 feet upstream of Bagley Road | +758 | +764 | Unincorporated Areas of Cuyahoga County.
| Approximately 70 feet downstream of Sprague Road | +777 | +780
Rocky River | Approximately 775 feet downstream of River Road | None | +600 | City of Cleveland.
| Approximately 3,500 feet upstream of River Road | None | +606
Rocky River | Approximately 1,100 feet upstream of Detroit Road | +581 | +580 | City of Rocky River.
| Approximately 1,400 feet downstream of I-90 | +594 | +595
Tinkers Creek Tributary 1 | Approximately 0.3 miles upstream of Walton Road | None | +930 | City of Bedford.
West Branch Rocky River | Approximately 1.1 miles downstream of Water Street | None | +682 | City of Olmsted Falls.
| At Sprague Road | None | +753
West Branch Rocky River | Approximately 1.1 miles downstream of Water Street | +684 | +682 | Unincorporated Areas of Cuyahoga County.
| Approximately 1,200 feet downstream of Water Street | +695 | +693
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
City of Bay Village
Maps are available for inspection at 350 Dover Center Road, Bay Village, OH 44140.
City of Bedford
Maps are available for inspection at 165 Center Road, Bedford, OH 44146.
City of Brooklyn
Maps are available for inspection at 7619 Memphis Avenue, Brooklyn, OH 44144.
City of Cleveland
Maps are available for inspection at 601 Lakeside Avenue, Cleveland, OH 44144.
City of Cleveland Heights
Maps are available for inspection at 40 Severance Circle, Cleveland Heights, OH 44118.
City of Garfield Heights
Maps are available for inspection at 5407 Turney Road, Garfield Heights, OH 44125.
City of Lakewood
Maps are available for inspection at 12650 Detroit Avenue, Lakewood, OH 44107.
City of Maple Heights
Maps are available for inspection at 5353 Lee Road, Maple Heights, OH 44137.
City of North Olmsted
Maps are available for inspection at 5200 Dover Center Road, North Olmsted, OH 44070.
City of Olmsted Falls
Maps are available for inspection at 26100 Bagley Road, Olmsted Falls, OH 44138.
City of Parma
Maps are available for inspection at 6611 Ridge Road, Parma, OH 44129.
City of Parma Heights
Maps are available for inspection at 6281 Pearl Road, Parma Heights, OH 44130.
City of Rocky River
Maps are available for inspection at 21012 Hilliard Boulevard, Rocky River, OH 44116.
City of Westlake
Maps are available for inspection at 27700 Hilliard Boulevard, Westlake, OH 44145.
Unincorporated Areas of Cuyahoga County
Maps are available for inspection at 323 Lakeside Avenue, Suite 400, Cleveland, OH 44113.
Village of Linndale
Maps are available for inspection at 4016 West 119th Street, Linndale, OH 44135.
Village of Mayfield
Maps are available for inspection at 6622 Wilson Mills Road, Mayfield, OH 44143.
Village of Moreland Hills
Maps are available for inspection at 4350 S.O.M. Center Road, Moreland Hills, OH 44022.
Brown County, South Dakota, and Incorporated Areas
James River | Approximately 3.8 miles downstream of 147th Street | None | +1275 | Unincorporated Areas of Brown County.
| Approximately 6,260 feet upstream of 101st Street | None | +1296
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
Unincorporated Areas of Brown County
Maps are available for inspection at 25 Market Street, Aberdeen, SD 57401.
Lake County, Tennessee, and Incorporated Areas
Mississippi River | From the Dyer/Lake County boundary (River Mile 845) | None | +281 | Unincorporated Areas of Lake County, Town of Tiptonville.
| Lake County/New Madrid County, Missouri/Fulton County, Kentucky boundaries (River Mile 907.3) | None | +311
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
Town of Tiptonville
Maps are available for inspection at the Town Hall, 130 South Court Street, Tiptonville, TN 38079.
Unincorporated Areas of Lake County
Maps are available for inspection at the County Courthouse, 229 Church Street, Tiptonville, TN 38079.

(Catalog of Federal Domestic Assistance No. 97.022, “Flood Insurance.”)

Dated: May 13, 2009.
Deborah S. Ingram,
Acting Deputy Assistant Administrator for Mitigation, Mitigation Directorate, Department of Homeland Security, Federal Emergency Management Agency.

[FR Doc. E9-12106 Filed 5-22-09; 8:45 am]

BILLING CODE 9110-12-P